DEPARTMENT OF COMMERCE

National Oceanic and Atmospheric Administration

RIN 0648-XC599

Marine Mammals; File No. 17845

AGENCY: National Marine Fisheries Service (NMFS), National Oceanic and Atmospheric Administration (NOAA), Commerce.

ACTION: Notice; receipt of application for permit amendment.

SUMMARY: Notice is hereby given that Rachel Cartwright, Ph.D., Keiki Kohola Project, 4945 Coral Way, Oxnard, CA 93035, has applied for an amendment to Scientific Research Permit No. 17845.

DATES: Written, telefaxed, or email comments must be received on or before November 9, 2016.

ADDRESSES: The application and related documents are available for review by selecting “Records Open for Public Comment” from the “Features” box on the Applications and Permits for Protected Species home page, https://apps.nmfs.noaa.gov, and then selecting File No. 17845 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Shasta McClenahan or Carrie Hubard, (301) 427-8401.

SUPPLEMENTARY INFORMATION: The subject amendment to Permit No. 17845 is requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR 222-226).

Permit No. 17845, issued on January 25, 2014 (79 FR 5382), authorizes the permit holder to conduct Level A and B harassment of humpback whales (Megaptera novaeangliae) during photo-identification, behavioral follows, and surface and underwater observations in Hawaii, Alaska, and California. Nine other cetacean species may be studied opportunistically and two species of pinnipeds may be incidentally harassed. The permit expires on January 31, 2019. The permit holder is requesting the permit be amended to authorize Level B playbacks for humpback whales to estimate their hearing range using behavioral observation audiometry. The sounds will be presented to a maximum of 300 humpback whales and their behavioral responses will be measured through visual and acoustic recordings including an unmanned aerial system. The research will take place from January through April, annually, in Hawaii. Only humpback whales will be targeted for active playback, but incidental harassment to additional species may occur including bottlenose dolphins (Tursiops truncatus), spinner dolphins (Stenella longirostris), false killer whales (Pseudorca crassidens), melon headed whales (Peponocephala electra), and short-finned pilot whales (Globicephala macrorhynchus).

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: September 27, 2016.
Julia Harrison,
Chief, Permits and Conservation Division, Office of Protected Resources, National Marine Fisheries Service.

[FR Doc. 2016-23724 Filed 9-30-16; 8:45 am]

BILLING CODE 3510-22-P